DEPARTMENT OF HEALTH AND HUMAN SERVICES

Food and Drug Administration

[Docket No. FDA-2016-N-1486]

Authorizations of Emergency Use of In Vitro Diagnostic Devices for Detection of Zika Virus; Availability; Correction

AGENCY: Food and Drug Administration, HHS.

ACTION: Notice; correction.

SUMMARY: The Food and Drug Administration is correcting a notice entitled “Authorizations of Emergency Use of In Vitro Diagnostic Devices for Detection of Zika Virus; Availability” that appeared in the Federal Register of June 30, 2017 (82 FR 29886). The document announced the issuance of two Emergency Use Authorizations for in vitro diagnostic devices for detection of the Zika virus in response to the Zika virus outbreak in the Americas. The document was published with the incorrect docket number. This document corrects that error.

FOR FURTHER INFORMATION CONTACT: Lisa Granger, Office of Policy and Planning, Food and Drug Administration, 10903 New Hampshire Ave., Bldg. 32, Rm. 3330, Silver Spring, MD 20993-0002, 301-796-9115.

SUPPLEMENTARY INFORMATION: In the Federal Register of Friday, June 30, 2017, in FR Doc. 2017-13720, on page 29866, the following correction is made:

1. On page 29866, in the first column, in the headings section at the beginning of the document, the docket number is corrected to read “FDA-2016-N-1486”.

Dated: June 30, 2017.
Anna K. Abram,
Deputy Commissioner for Policy, Planning, Legislation, and Analysis.

[FR Doc. 2017-14365 Filed 7-7-17; 8:45 am]

BILLING CODE 4164-01-P